DEPARTMENT OF LABOR

Bureau of Labor Statistics

Federal Economic Statistics Advisory Committee; Appointment of New Members

This is to announce the appointment of two new members to the Federal Economic Statistics Advisory Committee (FESAC), established under the provisions of the Federal Advisory Committee Act, as amended (Public Law 92-463; 5 U.S.C. App. 2, 6(c)). These appointments will fill two positions that are currently vacant. The names and institutional affiliations of the new Committee members are as follows:

Professor Timothy F. Bresnahan,

Stanford University;

Professor Robert M. Groves,

University of Michigan.

The Committee presents advice and makes recommendations to the Department of Labor, Bureau of Labor Statistics and the Department of Commerce, Bureau of Economic Analysis and Bureau of the Census (the Agencies) from the perspective of the professional economics and statistics communities. The Committee is a technical committee composed of economists, statisticians, and behavioral scientists who are recognized for their attainments and objectivity in their respective fields. Committee members are called upon to analyze the issues involved in producing Federal economic statistics and recommend practices that will lead to optimum efficiency, effectiveness, and cooperation among the Agencies. These appointments are for one-, two-, or three-year terms, to provide staggered three-year terms overall. Professor Ernst R. Berndt of the Massachusetts Institute of Technology serves as Committee Chairperson.

Signed at Washington, DC this 27th day of November 2000.
Katharine G. Abraham,
Commissioner of Labor Statistics.

[FR Doc. 00-30626 Filed 11-30-00; 8:45 am]

BILLING CODE 4510-24-P